FEDERAL DEPOSIT INSURANCE CORPORATION

[OMB No. 3064-0028; -0109; -0124; -0134]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0028; -0109; -0124 and -0134).

DATES: Comments must be submitted on or before October 21, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Recordkeeping and Confirmation Requirements for Securities Transactions.

OMB Number: 3064-0028.

Form Number: None.

Affected Public: FDIC-Insured Institutions and Certain Employees of the FDIC-Insured Institutions.

Burden Estimate:

Summary of Estimated Annual Burden
[OMB No. 3064-0028]
Information collection (IC) (obligation to respond) | Type of burden (frequency of response) | Number of respondents | Number of responses per respondent | Time per response (HH:MM) | Annual burden (hours)
1. Maintain Securities Trading Policies and Procedures, 12 CFR 344.8 (Mandatory) | Recordkeeping (On Occasion) | 632 | 1 | 1:00 | 632
2. Officer/Employee Filing of Reports of Personal Securities Trading, 12 CFR 344.9 (Mandatory) | Third Party Disclosure (On Occasion) | 1,896 | 4 | 1:00 | 7,584
Total Annual Burden (Hours): |  |  |  |  | 8,216
Source: FDIC.

General Description of Collection: The collection of information requirements is contained in 12 CFR part 344. The purpose of the regulation is to ensure that purchasers of securities in transactions affected by insured state nonmember banks are provided with adequate records concerning the transactions. The regulation is also designed to ensure that insured State nonmember banks maintain adequate records and controls with respect to the securities transactions they effect. Finally, this regulation requires officers and employees of FDIC-supervised institutions to report to the FDIC-supervised institution certain personal securities trading activity. There is no change in the methodology or substance of this information collection. The decrease in total estimated annual burden from 8,583 hours in 2021 to 8,216 hours currently is due to a decrease in estimated number of respondents.

2. Title: Notice of Branch Closure.

OMB Number: 3064-0109.

Form Number: None.

Affected Public: FDIC-insured depository institutions.

Burden Estimate:

Summary of Estimated Annual Burden
[OMB No. 3064-0109]
Information collection (IC) (obligation to respond) | Type of burden (frequency of response) | Number of respondents | Number of responses per respondent | Time per response (HH:MM) | Annual burden (hours)
1. Notice of Branch Closure to FDIC, 12 U.S.C. 1831r-(a) (Mandatory) | Reporting (On Occasion) | 276 | 2.99 | 00:30 | 413
2. Notice of Branch Closure to Customers, 12 U.S.C. 1831r-(b) (Mandatory) | Disclosure (On Occasion) | 276 | 2.99 | 1:30 | 1,238
3. Adoption of Branch Closure Policy, 12 U.S.C. 1831r-1 (Mandatory) | Recordkeeping (Annual) | 18 | 1 | 08:00 | 144
Total Annual Burden (Hours): |  |  |  |  | 1,795
Source: FDIC.

General Description of Collection: Section 42 of the Federal Deposit Insurance Act mandates that an insured depository institution closing a branch notify its primary federal regulator not later than 90 days prior to the closing. The statute also provides that a notice be posted on the premises of the branch for the 30-day period immediately prior to the closing and that the customers be notified in a mailing at least 90 days prior to the closing. Each insured depository institution that has one or more branches is required to adopt a written policy for branch closings. There is no change in the methodology or substance of this information collection. The increase in total estimated annual burden from 1,738 hours in 2021 to 1,795 hours currently is due to an increase in estimated number or respondents.

3. Title: Notice of Branch Closure.

OMB Number: 3064-0124.

Form Number: None.

Affected Public: Insured depository institutions.

Burden Estimate:

Summary of Estimated Annual Burden
[OMB No. 3064-0124]
Information collection (IC) (obligation to respond) | Type of burden (frequency of response) | Number of respondents | Number of responses per respondent | Time per response (HH:MM) | Annual burden (hours)
Certification of Assumption of Deposit Liabilities 12 CFR 307.2 (Mandatory) | Reporting (On occasion) | 162 | 1 | 1:00 | 162
Notice to Depositors 12 CFR 307.3 (Mandatory) | Disclosure (On occasion) | 12 | 1 | 2:00 | 24
Total Annual Burden (Hours): |  |  |  |  | 186
Source: FDIC.

General Description of Collection: This information collection consists of two parts: (1) a certification that insured depository institutions provide the FDIC when all deposit liabilities from one insured depository institution are assumed from another insured depository institution, with the latter institution responsible for providing the certification; and (2) a notification that an insured depository institution provides to its depositors when it seeks to voluntarily terminate its insured status. The certification is necessary to implement the provisions of section 8(q) of the Federal Deposit Insurance Act, 12 U.S.C. 1818(q), regarding termination of the insured status of the transferring institution and termination of the separate deposit insurance coverage provided on deposit accounts assumed by the assuming institution. The depositor notification is required by section 8(a)(6) of the Federal Deposit Insurance Act, 12 U.S.C. 1818(a)(6). This provision ensures that the institution's depositors receive appropriate information regarding the institution's intent to terminate its insured status and that, prior to the termination of the institution's insured status, depositors receive appropriate information concerning federal deposit insurance coverage of their accounts once the institution's insured status is terminated. There is no change in the methodology or substance of this information collection. The decrease in total estimated annual burden from 256 in 2021 to 186 currently is due to a change in the estimated number or respondents.

4. Title: Extension without change of a currently approved collection.

OMB Number: 3064-0134.

Form Number: 6422/04; 6422/11; 6422/15.

Affected Public: Individuals, Households, Business or Financial Institutions.

Burden Estimate:

Summary of Estimated Annual Burden
[OMB No. 3064-0134]
Information collection (IC) (obligation to respond) | Type of burden (frequency of response) | Number of respondents | Number of responses per respondent | Time per response (HH:MM) | Annual burden (hours)
1. Customer Assistance Form (6422/04) (Voluntary) | Reporting (On Occasion) | 8,566 | 1 | 00:15 | 2,142
2. Business Assistance Form (6422/11) (Voluntary) | Reporting (On Occasion) | 1,191 | 1 | 00:15 | 298
3. FDIC Deposit Insurance Form (6422/15) (Voluntary) | Reporting (On Occasion) | 1,465 | 1 | 00:15 | 366
Total Annual Burden (Hours): |  |  |  |  | 2,806
Source: FDIC.

General Description of Collection: This collection facilitates the collection of information from customers of financial institutions that have inquiries or complaints about service. Customers or businesses may document their complaints or inquiries to the FDIC using a letter or optional forms (Form 6422/04; Form 6422/11; Form 6422/15). The forms are used to facilitate online completion and submission of the complaints or inquiries and to shorten FDIC response times by making it easier to identify the nature of the complaint and to route the customer or business inquiry to the appropriate FDIC contact. There is no change in the methodology or substance of this information collection. The increase in total estimated annual burden from 1,468 in 2021 to 2,806 currently is due to an increase in the estimated number or respondents.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on August 15, 2024.
James P. Sheesley,
Assistant Executive Secretary.

[FR Doc. 2024-18711 Filed 8-20-24; 8:45 am]

BILLING CODE 6714-01-P